FEDERAL TRADE COMMISSION

Agency Information Collection Activities; Proposed Collection; Comment Request

AGENCY: Federal Trade Commission (“FTC” or “Commission”).

ACTION: Notice.

SUMMARY: The information collection requirements described below will be submitted to the Office of Management and Budget (“OMB”) for review, as required by the Paperwork Reduction Act (“PRA”). The FTC is seeking public comments on its proposal to extend through March 31, 2013, the current PRA clearance for information collection requirements contained in its Alternative Fuel Rule. Those clearances expire on March 31, 2010.

DATES: Comments must be received on or before March 8, 2010.

ADDRESSES: Interested parties are invited to submit written comments electronically or in paper form, by following the instructions in the Request for Comments to 60-Day Notice part of the SUPPLEMENTARY INFORMATION section below. Comments in electronic form should be submitted by using the following Web link: (https://public.commentworks.com/ftc/alternativefuelrulepra) (and following the instructions on the web-based form). Comments in paper form should be mailed or delivered to the following address: Federal Trade Commission, Office of the Secretary, Room H-135 (Annex J), 600 Pennsylvania Avenue, NW, Washington, DC 20580, in the manner detailed in the SUPPLEMENTARY INFORMATION below.

FOR FURTHER INFORMATION CONTACT: Requests for copies of the collection of information and supporting documentation should be addressed to Hampton Newsome, Attorney, Division of Enforcement, Bureau of Consumer Protection, Federal Trade Commission, 600 Pennsylvania Avenue, NW., NJ- 2122, Washington, DC 20580, (202) 326-2889.

SUPPLEMENTARY INFORMATION:

Proposed Information Collection Activities

Under the PRA, 44 U.S.C. 3501-3521, federal agencies must obtain approval from OMB for each collection of information they conduct or sponsor. “Collection of information” means agency requests or requirements that members of the public submit reports, keep records, or provide information to a third party. 44 U.S.C. § 3502(3), 5 CFR § 1320.3 (c). Because the number of entities affected by the Commission’s requests will exceed ten, the Commission plans to seek OMB clearance under the PRA. As required by § 3506(c)(2)(A) of the PRA, the Commission is providing this opportunity for public comment before requesting that OMB extend the existing paperwork clearance for the information collection requirements associated with the Commission’s regulations under the Alternative Fuel Rule (“the Rule”), 16 CFR part 309.

The Rule, which implements the Energy Policy Act of 1992, Pub. L. 102-486, requires disclosure of specific information on labels posted on fuel dispensers for non-liquid alternative fuels and on labels on Alternative Fueled Vehicles (AFVs). To ensure the accuracy of these disclosures, the Rule also requires that sellers maintain records substantiating product-specific disclosures they include on these labels.

Request for Comments to 60-Day Notice

The FTC invites comments on: (1) whether the proposed collection of information is necessary for the proper performance of the functions of the agency, including whether the information will have practical utility; (2) the accuracy of the agency’s estimate of the burden of the proposed collection of information, including the validity of the methodology and assumptions used; (3) ways to enhance the quality, utility, and clarity of the information to be collected; and (4) ways to minimize the burden of the collection of information on those who are to respond, including through the use of appropriate automated, electronic, mechanical, or other technological collection techniques or other forms of information technology, e.g., permitting electronic submission of responses. All comments should be filed as prescribed below, and must be received on or before March 8, 2010.

Because comments will be made public, they should not include any sensitive personal information, such as an individual’s Social Security Number; date of birth; driver’s license number or other state identification number, or foreign country equivalent; passport number; financial account number; or credit or debit card number. Comments also should not include any sensitive health information, such as medical records or other individually identifiable health information. In addition, comments should not include any “[t]rade secret or any commercial or financial information which is obtained from any person and which is privileged or confidential. . . .,” as provided in Section 6(f) of the Federal Trade Commission Act (“FTC Act”), 15 U.S.C. 46(f), and FTC Rule 4.10(a)(2), 16 CFR 4.10(a)(2). Comments containing material for which confidential treatment is requested must be filed in paper form, must be clearly labeled “Confidential,” and must comply with FTC Rule 4.9(c), 16 CFR 4.9(c).¹

¹ The comment must be accompanied by an explicit request for confidential treatment, including the factual and legal basis for the request, and must identify the specific portions of the comment to be withheld from the public record. The request will be granted or denied by the Commission’s General Counsel, consistent with applicable law and the public interest. See FTC Rule 4.9(c), 16 CPR 4.9(c).

Because paper mail addressed to the FTC is subject to delay due to heightened security screening, please consider submitting your comments in electronic form. Comments filed in electronic form should be submitted by using the following web link: (https://public.commentworks.com/ftc/alternativefuelrulepra) (and following the instructions on the web-based form). To ensure that the Commission considers an electronic comment, you must file it on the web-based form at the web link: (https://public.commentworks.com/ftc/alternativefuelrulepra). If this Notice appears at (http://www.regulations.gov/search/index.jsp), you may also file an electronic comment through that website. The Commission will consider all comments that regulations.gov forwards to it. You may also visit the FTC Website at (http://www.ftc.gov) to read the Notice and the news release describing it.

A comment filed in paper form should include the “Alternative Fuel Rule: FTC File No. R311002” reference both in the text and on the envelope, and should be mailed or delivered to the following address: Federal Trade Commission, Office of the Secretary, Room H-135 (Annex J), 600 Pennsylvania Avenue, NW, Washington, DC 20580. The FTC is requesting that any comment filed in paper form be sent by courier or overnight service, if possible, because U.S. postal mail in the Washington area and at the Commission is subject to delay due to heightened security precautions.

The FTC Act and other laws the Commission administers permit the collection of public comments to consider and use in this proceeding as appropriate. The Commission will consider all timely and responsive public comments that it receives, whether filed in paper or electronic form. Comments received will be available to the public on the FTC Website, to the extent practicable, at (http://www.ftc.gov/os/publiccomments.shtm). As a matter of discretion, the Commission makes every effort to remove home contact information for individuals from the public comments it receives before placing those comments on the FTC Website. More information, including routine uses permitted by the Privacy Act, may be found in the FTC’s privacy policy, at (http://www.ftc.gov/ftc/privacy.shtm).

Burden Statement

It is common practice for alternative fuel industry members to determine and monitor fuel ratings in the normal course of their business activities. This is because industry members must know and determine the fuel ratings of their products in order to monitor quality and to decide how to market them. “Burden” for PRA purposes is defined to exclude effort that would be expended regardless of any regulatory requirement. 5 CFR 1320.2(b)(2). Moreover, as originally anticipated when the Rule was promulgated in 1995, many of the information collection requirements and the originally-estimated hours were associated with one-time start up tasks of implementing standard systems and processes.

Other factors also limit the burden associated with the Rule. Certification may be a one-time event or require only infrequent revision. Disclosures on electric vehicle fuel dispensing systems may be useable for several years. ² Nonetheless, there is still some burden associated with posting labels. There is also some minimal burden associated with new or revised certification of fuel ratings and recordkeeping. The burden on vehicle manufacturers is limited because only newly-manufactured vehicles require label posting and manufacturers produce very few new models each year.

² Label specifications were designed to produce labels to withstand the elements for several years.

(1) Estimated total annual hours burden: 38,000 total burden hours, rounded to nearest thousand (includes Non-liquid Alternative Fuels³ and Alternative Fuel Vehicle Manufacturers) .

³ This includes compressed natural gas producers and distributors and manufacturers of electric vehicle fuel dispensing systems.

Non-liquid Alternative Fuels:

Certification: Staff estimates that the Rule’s fuel rating certification requirements affect approximately 550 industry members (compressed natural gas producers and distributors and manufacturers of electric vehicle fuel dispensing systems) and consume approximately one hour each per year for a total of 550 hours.

Recordkeeping: Staff estimates that all 1,900 industry members (non-liquid fuel producers, distributors, and retailers) are subject to the Rule’s recordkeeping requirements (associated with fuel rating certification) and that compliance requires approximately one-tenth hour each per year for a total of 190 hours.

Labeling: Staff estimates that labeling requirements affect approximately nine of every ten industry members (or roughly 1,700 members), but that the number of annually affected members is only 340 because labels may remain effective for several years (staff assumes that in any given year approximately 20% of 1,700 industry members will need to replace their labels). Staff estimates that industry members require approximately one hour each per year for labeling their fuel dispensers for a total of 340 hours.

Sub-total (Non-liquid Alternative Fuels): 1,080 hours (550 + 190 +340).

AFV Manufacturers:

Recordkeeping: Staff estimates that a total of 8 manufacturers require 30 minutes to comply with the Rule’s recordkeeping requirements for a total of 4 hours.

Producing labels: Staff estimates 2.5 hours as the average time required of manufacturers to produce labels for each of the five new AFV models introduced industry-wide each year for a total of 12.5 hours.

Posting labels: Staff estimates 2 minutes as the average time to comply with the posting requirements for each of the approximately 1,121,153 new AFVs manufactured each year for a total of 37,371 hours.

Sub-total (AFV Manufacturers) : 37,388 hours (4 + 12.5 + 37,371).

Thus, the total burden for these industries combined is approximately 38,000 hours (1,080 + 37,388), rounded to nearest thousand.

(2) Estimated labor costs: $1,155,017 per year rounded (includes both Non-liquid Alternative Fuels and AFV Manufacturers) .

Labor costs are derived by applying appropriate hourly cost figures to the burden hours described above. According to Bureau of Labor Statistics data for 2008 (most recent available whole-year information), the average compensation for producers and distributors in the fuel industry is $27.28 per hour and $9.46 per hour for service station employees; the average compensation for workers in the vehicle industry is $30.18 per hour.

Non-liquid Alternative Fuels:

Certification and labeling: Generally, all of the estimated hours except for recordkeeping will be performed by producers and distributors of fuels. Thus, the associated labor costs would be $24,279. [(550 certification hours + 340 labeling hours) × $27.28]

Recordkeeping: Only 1/6 of the total recordkeeping hours will be performed by the producers and distributors of fuels (1/6 of 190 hours = approximately 32 hours; 32 hours × $27.28 = $872.96); the other 5/6 is attributable to service station employees (5/6 of 190 hours = approximately 158 hours; 158 hours × $9.46 = $1,494.68). Thus, the labor cost due to recordkeeping for the entire industry is approximately $2,368 ($872.96 for producers and distributors of fuels +$1,494.68 for service station employees).

The total paperwork related labor cost for the entire industry (Non-liquid alternative fuels) is approximately $26,647 ($24,279 for certification and labeling costs + $2,368 for recordkeeping costs).

AFV manufacturers:

The maximum labor cost for the entire industry (AFV manufacturers) is approximately $1,128,370 per year for recordkeeping and producing and posting labels (37,388 hours × $30.18/hour).

Thus, the estimated total labor cost for both industries for all paperwork requirements is $1,155,017 ($26,647 + $1,128,370) per year, rounded.

(3) Estimated annual non-labor cost burden: $426,251 rounded (includes both Non-liquid Alternative Fuels and AFV Manufacturers).

Non-liquid Alternative Fuels:

Staff believes that there are no current start-up costs associated with the Rule, inasmuch as the Rule has been effective since 1995. Industry members, therefore, have in place the capital equipment and means necessary to determine automotive fuel ratings and comply with the Rule. Industry members, however, incur the cost of procuring fuel dispenser and AFV labels to comply with the Rule. The estimated annual fuel labeling cost, based on estimates of 560 fuel dispensers (assumptions: an estimated 20% of 1,400 total fuel retailers need to replace labels in any given year given an approximate five-year life for labels—i.e., 280 retailers—multiplied by an average of two dispensers per retailer) at thirty-eight cents for each label (per industry sources), is $212.8 ($0.38 × 560).

AFV Manufacturers:

Here, too, staff believes that there are no current start-up costs associated with the Rule, for the same reasons as stated immediately above regarding the nonliquid alternative fuel industry. However, based on the labeling of an estimated 1,121,153 new and used AFVs each year at thirty-eight cents for each label (per industry sources), the annual AFV labeling cost is estimated to be $426,038.14 ($0.38 × 1,121,153).

Thus, the estimated total annual nonlabor cost burden associated with the Rule is $426,251 ($212.8 + $426,038.14), rounded.

Willard Tom,
General Counsel.

[FR Doc. E9-31202 Filed 1-4-10; 8:45 am]

BILLING CODE 6750-01-S